FEDERAL COMMUNICATIONS COMMISSION

47 CFR Part 25

[GN Docket Nos. 17-183, 18-122; DA 18-639]

Notice of 90-Day Filing Window Extension for Earth Stations Currently Operating in the 3.7-4.2 GHz Band; Filing Options for Operators With Multiple Earth Station Antennas

AGENCY: Federal Communications Commission.

ACTION: Proposed rule.

SUMMARY: In this document, the International Bureau (Bureau) announces a 90-day extension to the filing window for fixed-satellite service (FSS) earth stations currently operating in the 3.7-4.2 GHz frequency band announced in the Public Notice (Freeze PN), DA 18-398. The Bureau also clarifies that applications to register multiple FSS antennas operating in this band that are located at the same address or geographic location may be filed in the International Bureau Filing System (IBFS) by using a single registration form and paying a single fee. Finally, the Bureau announces the availability of an additional option to facilitate the registration of large numbers of geographically diverse earth stations by filing an application for a single “network” license and paying a single fee in IBFS.

DATES: 90-day extension of filing window closes October 17, 2018.

ADDRESSES: You may submit comments, identified by GN Docket Nos. 17-183 and 18-122, by any of the following methods:

• Federal Communications Commission's Website: http://apps.fcc.gov/ecfs//. Follow the instructions for submitting comments.

• People with Disabilities: Contact the FCC to request reasonable accommodations (accessible format documents, sign language interpreters, CART, etc.) by email: FCC504@fcc.gov or phone: 202-418-0530 or TTY: 888-835-5322.

FOR FURTHER INFORMATION CONTACT: Christopher Bair, 202-418-0945 or Paul Blais, 202-418-7274.

SUPPLEMENTARY INFORMATION: This is a summary of the Commission's document, DA 18-639, released June 21, 2018. The full text of this document is available at https://docs.fcc.gov/public/attachments/DA-18-639A1.pdf. It is also available for inspection and copying during business hours in the FCC Reference Information Center, Portals II, 445 12th Street SW, Room CY-A257, Washington, DC 20554. To request materials in accessible formats for people with disabilities, send an email to FCC504@fcc.gov or call the Consumer & Governmental Affairs Bureau at 202-418-0530 (voice), 202-418-0432 (TTY).

Background. On April 19, 2018, the International, Public Safety and Homeland Security, and Wireless Telecommunications Bureaus issued Public Notice DA 18-398 announcing a temporary freeze effective April 19, 2018, on the filing of new or modification applications for FSS earth station licenses, FSS receive-only earth station registrations, and fixed microwave licenses in the 3.7-4.2 GHz frequency band. As a limited exception to the filing freeze, the International Bureau concurrently opened a 90-day window during which entities that operated existing FSS earth stations in the 3.7-4.2 GHz band could voluntarily file an application to register or license their earth stations if they were not currently registered or licensed in the IBFS, or could file an application to modify a current registration or license. The Bureau also waived the coordination report requirement for the duration of the freeze.

90-Day Extension of Application Filing Window. The International Bureau now extends the original 90-day filing window announced in the Freeze PN for an additional 90 days, until October 17, 2018, in order to provide operators with more time to file applications, should they choose to do so. This action does not impact the cut-off date for operations eligible for the exception, i.e., only earth stations constructed and operational as of April 19, 2018 are eligible for filing during this window.

Filing Option for Operators with Multiple Co-Located Earth Station Antennas. The Bureau clarifies that operators with multiple receive-only antennas at a single geographic location or address may apply to register these antennas under a single earth station application and pay a single application fee, which is currently $435 (fee code CMO).

Filing Option for Operators with Geographically Diverse Earth Stations. The Bureau announces that it is waiving certain sections of the Commission's rules to permit operators of multiple geographically diverse receive-only earth stations to register those stations under § 25.115(c)(2) of the Commission's rules, 47 CFR 25.115(c)(2), which permits applications for “Networks of earth station operating in the 3700-4200 MHz and 5925-6425 MHz bands.” Specifically, the Bureau waives the portions of § 25.115(c)(2) that are inapplicable to receive-only stations or are unnecessary as a result of the Freeze PN. The following procedures apply to applicants seeking to utilize the § 25.115(c)(2) process for registration of receive-only earth stations during the filing window: Applicants must complete a “Lead Application” on Form 312, Main Form and Schedule B; Schedule B should include a site ID for each geographic location where the applicant has receive-only earth stations and should provide the technical details required by the Form for each antenna at each site; the coordination report required by § 25.115(c)(2) is waived as described in DA 18-398; the requirements of paragraphs (i) and (v) of § 25.115(c)(2) are waived for networks of receive-only earth stations; pursuant to DA 18-398, only earth stations constructed and operational as of April 19, 2018 may file during the window, so the one-year construction period of § 25.115(c)(2)(vii) is inapplicable.

Fees. Applicants filing as a network of earth stations under § 25.115(c)(2) as described above must pay the fee for a “Fixed Satellite VSAT System,” which is currently $10,620 (fee code BGV). Networks of receive-only earth stations are not subject to regulatory fees.

This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Federal Communications Commission.
Troy Tanner,
Deputy Chief, International Bureau.

[FR Doc. 2018-15969 Filed 7-25-18; 8:45 am]

BILLING CODE 6712-01-P